DEPARTMENT OF ENERGY

Federal Energy Regulatory Commission

Combined Notice of Filings #2

Take notice that the Commission received the following electric corporate filings:

Docket Numbers: EC25-101-000.

Applicants: Vandolah Power Company L.L.C., Florida Power & Light Company.

Description: Informational Report of Mitigation Proposal of Vandolah Power Company L.L.C. et al.

Filed Date: 12/19/25.

Accession Number: 20251219-5640.

Comment Date: 5 p.m. ET 1/20/26.

Take notice that the Commission received the following electric rate filings:

Docket Numbers: ER10-2822-032; ER10-1776-009; ER10-2824-009; ER10-2825-010; ER10-2831-005; ER10-2957-010; ER10-2995-010; ER10-2996-009; ER10-2998-007; ER10-2999-009; ER10-3000-009; ER10-3009-011; ER10-3013-010; ER10-3014-004; ER10-3029-009; ER11-2196-013; ER17-1243-004; ER17-1769-006; ER19-2360-008; ER21-2272-007; ER21-2748-006; ER21-2847-007; ER22-2173-006; ER22-2174-006; ER25-1279-001; ER25-1529-003; ER26-138-001.

Applicants: Leaning Juniper 2B, LLC, Avangrid Power, LLC, Tower Solar, LLC, Daybreak Solar, LLC, Bakeoven Solar, LLC, Montague Solar, LLC, Lund Hill Solar, LLC, Bracewell LLP, Golden Hills Wind Farm, LLC, Montague Wind Power Facility, LLC, Solar Star Oregon II, LLC, Twin Buttes Wind II LLC, San Luis Solar LLC, Klondike Wind Power III LLC, Twin Buttes Wind LLC, Star Point Wind Project LLC, Pebble Springs Wind LLC, Klondike Wind Power II LLC, Klondike Wind Power LLC, Klamath Generation LLC, Klamath Energy LLC, Juniper Canyon Wind Power LLC, Hay Canyon Wind LLC, Colorado Green Holdings LLC, Big Horn II Wind Project LLC, Big Horn Wind Project LLC, Leaning Juniper Wind Power II LLC, Atlantic Renewable Projects II LLC.

Description: Triennial Market Power Analysis for Northwest Region of Atlantic Renewable Projects II LLC, et al.

Filed Date: 12/31/25.

Accession Number: 20251231-5500.

Comment Date: 5 p.m. ET 3/2/26.

Docket Numbers: ER12-726-013; ER18-2158-007; ER22-2703-008.

Applicants: Pattern Energy Management Services LLC, Stillwater Wind, LLC, Spring Valley Wind LLC.

Description: Triennial Market Power Analysis for Northwest Region of Spring Valley Wind LLC, et al.

Filed Date: 12/31/25.

Accession Number: 20251231-5503.

Comment Date: 5 p.m. ET 3/2/26.

Docket Numbers: ER16-915-010; ER10-2201-012; ER10-2861-015; ER12-1308-018; ER13-291-011; ER13-1504-016; ER15-1952-016; ER16-612-004; ER16-2520-008; ER17-318-008; ER19-8-008.

Applicants: Sweetwater Solar, LLC, Three Peaks Power, LLC, Grand View PV Solar Two LLC, Greeley Energy Facility, LLC, Pavant Solar LLC, SWG Arapahoe, LLC, EnergyMark, LLC, Palouse Wind, LLC, Fountain Valley Power, L.L.C., Marina Energy, LLC, Comanche Solar PV, LLC.

Description: Triennial Market Power Analysis for Northwest Region of Comanche Solar PV, LLC, et al.

Filed Date: 12/31/25.

Accession Number: 20251231-5504.

Comment Date: 5 p.m. ET 3/2/26.

Docket Numbers: ER21-1755-017; ER23-1642-014; ER24-280-006; ER14-2500-025.

Applicants: Newark Energy Center, LLC, Hartree-Meadowlands Newark, LLC, Stored Solar J&WE, LLC, Hartree Partners, LP.

Description: Triennial Market Power Analysis for Northwest Region of Hartree Partners, LP, et al.

Filed Date: 12/31/25.

Accession Number: 20251231-5505.

Comment Date: 5 p.m. ET 3/2/26.

Docket Numbers: ER24-1271-006; ER10-1330-017; ER10-1427-020; ER10-2460-025; ER10-2461-026; ER10-2463-023; ER10-2466-026; ER10-2895-028; ER10-2917-033; ER10-2918-028; ER10-2920-028; ER10-2921-028; ER10-2922-033; ER10-2966-028; ER10-3167-021; ER11-2201-031; ER11-2383-030; ER11-4029-025; ER12-161-036; ER12-682-026; ER12-1311-025; ER12-2068-025; ER12-2313-015; ER13-17-024; ER13-203-020; ER13-1613-021; ER13-2143-021; ER14-1964-025; ER16-141-014; ER16-287-019; ER16-355-011; ER17-482-019; ER17-2336-011; ER19-529-027; ER19-1074-027; ER19-1075-027; ER20-1447-015; ER20-2028-010; ER22-192-017; ER22-497-002; ER22-1010-015; ER22-2963-004; ER23-2363-009; ER23-2481-008; ER24-443-009; ER24-444-008; ER24-1272-006; ER24-2271-005; ER24-2272-004; ER24-2273-005; ER24-2297-003; ER24-2580-002; ER24-2603-002; ER25-1127-002; ER25-1595-002; ER25-2562-001; ER25-3130-001.

Applicants: Morgnec Road Solar, LLC, Sycamore Creek Solar, LLC, Dodson Creek Solar, LLC, Spring Grove Solar II, LLC, Fayette Solar, LLC, White Pine Hydro, LLC, Ross County Solar, LLC, Jones Farm Lane Solar, LLC, Egypt Road Solar, LLC, Aspen Road Solar 1, LLC, Foxglove Solar Project, LLC, Deriva Energy Beckjord Storage LLC, Deriva Energy Services, LLC, Crystal Hill Solar, LLC, HXOap Solar One, LLC, Yellowbud Solar, LLC, Terraform IWG Acquisition Holdings II, LLC, NG Renewables Energy Marketing, LLC, Evolugen Trading and Marketing LP, Bitter Ridge Wind Farm, LLC, Brookfield Energy Marketing US LLC, Brookfield Renewable Energy Marketing US LLC, Brookfield Energy Marketing Inc., Brookfield Renewable Trading and Marketing LP, Shoreham Solar Commons LLC, BREG Aggregator LLC, Colonial Eagle Solar, LLC, BIF III Holtwood LLC, Conetoe II Solar, LLC, LSP Safe Harbor Holdings, LLC, Black Bear Development Holdings, LLC, Brookfield White Pine Hydro LLC, Black Bear SO, LLC, Niagara Wind Power, LLC, Laurel Hill Wind Energy, LLC, Blue Sky East, LLC, Stetson Holdings, LLC, Erie Wind, LLC, Bishop Hill Energy LLC, Vermont Wind, LLC, Safe Harbor Water Power Corporation, Evergreen Wind Power III, LLC, Black Bear Hydro Partners, LLC, Rumford Falls Hydro LLC, Hawks Nest Hydro LLC, Great Lakes Hydro America, LLC, Erie Boulevard Hydropower, L.P., Carr Street Generating Station, L.P., Brookfield Power Piney & Deep Creek LLC, Bear Swamp Power Company LLC, Stetson Wind II, LLC, Evergreen Wind Power, LLC, Canandaigua Power Partners II, LLC, Canandaigua Power Partners, LLC, Brookfield Energy Marketing LP, North Allegheny Wind, LLC, Alton Post Office Solar, LLC.

Description: Triennial Market Power Analysis for Northeast Region and Notice of Non- Material Change in Status of Alton Post Office Solar, LLC, et al.

Filed Date: 12/31/25.

Accession Number: 20251231-5506.

Comment Date: 5 p.m. ET 3/2/26.

Docket Numbers: ER25-3511-002.

Applicants: Southwest Power Pool, Inc.

Description: Tariff Amendment: 3878R1 States Edge Wind I GIA Amended Filing to be effective 9/15/2025.

Filed Date: 1/7/26.

Accession Number: 20260107-5055.

Comment Date: 5 p.m. ET 1/28/26.

Docket Numbers: ER25-3512-002.

Applicants: Southwest Power Pool, Inc.

Description: Tariff Amendment: 3879R1 States Edge Wind I GIA Amended Filing to be effective 9/15/2025.

Filed Date: 1/7/26.

Accession Number: 20260107-5057.

Comment Date: 5 p.m. ET 1/28/26.

Docket Numbers: ER25-3513-002.

Applicants: Southwest Power Pool, Inc.

Description: Tariff Amendment: 3880R1 States Edge Wind I GIA Amended Filing to be effective 9/15/2025.

Filed Date: 1/7/26.

Accession Number: 20260107-5065.

Comment Date: 5 p.m. ET 1/28/26.

Docket Numbers: ER26-963-000.

Applicants: Southwest Power Pool, Inc.

Description: § 205(d) Rate Filing: OG&E Formula Rate Revisions to Incorporate Changes Accepted in ER26-379-000 to be effective 1/1/2026.

Filed Date: 1/7/26.

Accession Number: 20260107-5063.

Comment Date: 5 p.m. ET 1/28/26.

Docket Numbers: ER26-964-000.

Applicants: Midcontinent Independent System Operator, Inc.

Description: § 205(d) Rate Filing: 2026-01-07 SA 4654 Entergy AR-SWPA IOA Certificate of Concurrence to be effective 1/1/2026.

Filed Date: 1/7/26.

Accession Number: 20260107-5067.

Comment Date: 5 p.m. ET 1/28/26.

Docket Numbers: ER26-965-000.

Applicants: Alabama Power Company, Georgia Power Company, Mississippi Power Company.

Description: Tariff Amendment: Alabama Power Company submits tariff filing per 35.15: Sandhills 2 Solar Amended and Restated LGIA Termination Filing to be effective 1/7/2026.

Filed Date: 1/7/26.

Accession Number: 20260107-5069.

Comment Date: 5 p.m. ET 1/28/26.

Docket Numbers: ER26-966-000.

Applicants: NSTAR Electric Company.

Description: Tariff Amendment: Cancellation- Preliminary Engineering Design Agreement Mayflower Wind Energy LLC to be effective 1/8/2026.

Filed Date: 1/7/26.

Accession Number: 20260107-5076.

Comment Date: 5 p.m. ET 1/28/26.

Docket Numbers: ER26-967-000.

Applicants: Portland General Electric Company.

Description: § 205(d) Rate Filing: OATT Section 15.7 and 28.5 Conformance Filing to be effective 12/10/2025.

Filed Date: 1/7/26.

Accession Number: 20260107-5106.

Comment Date: 5 p.m. ET 1/28/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 7, 2026.
Debbie-Anne A. Reese,
Secretary.

[FR Doc. 2026-00399 Filed 1-12-26; 8:45 am]

BILLING CODE 6717-01-P